DEPARTMENT OF TRANSPORTATION

Federal Aviation Administration

14 CFR Part 73

[Docket No. FAA-2006-26192; Airspace Docket No. 06-ASO-11]

RIN 2120-AA66

Proposed Modification and Establishment of Restricted Areas and Other Special Use Airspace, Adirondack Airspace Complex; Fort Drum, NY

AGENCY: Federal Aviation Administration (FAA), DOT.

ACTION: Notice of proposed rulemaking (NPRM).

SUMMARY: This action proposes to restructure the restricted areas located in the vicinity of Fort Drum, NY. The Air National Guard (ANG) proposed to redesign the airspace, referred to as the Adirondack Airspace Complex, by making a minor modification to the ceiling of existing restricted area R-5201, and by establishing two new restricted areas: R-5202A and R-5202B. In addition, the ANG proposes to redesign the Military Operations Areas (MOA) associated with the Fort Drum restricted areas. MOAs are not regulatory airspace, but are established administratively. Because the MOAs form an integral part of the Adirondack Airspace Complex, the FAA is also seeking comment on the proposed MOA changes through this NPRM. The ANG proposes these airspace changes to provide additional special use airspace (SUA) needed to conduct high altitude, long-range weapons releases and to allow more realistic training in modern tactics to be conducted in the Adirondack Airspace Complex.

DATES: Comments must be received on or before August 6, 2007.

ADDRESSES: Send comments on this proposal to the Docket Management System, U.S. Department of Transportation, Docket Operations, M-30, West Building Ground Floor, Room W12-140, 1200 New Jersey Avenue, SE., Washington, DC 20590; telephone: (202) 366-9826. You must identify FAA Docket No. FAA-2006-26192 and Airspace Docket No. 06-ASO-11, at the beginning of your comments. You may also submit comments through the Internet at http://dms.dot.gov. Comments on environmental and land use aspects should be directed to: NGB/A7CVN, Conaway Hall, 3500 Fetchet Ave, Andrews AFB, MD 20762; telephone: (301) 835-8143.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Comments are also invited on the nonregulatory MOA part of this proposal.

Communications should identify both docket numbers (FAA Docket No. FAA-2006-26192 and Airspace Docket No. 06-ASO-11) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2006-26192 and Airspace Docket No. 06-ASO-11.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person at the Dockets Office (see ADDRESSES section for address and phone number) between 9 a.m. and 5 p.m., Monday through Friday, except Federal holidays. An informal docket may also be examined during normal business hours at the office of the System Support Group, Eastern Service Center, Federal Aviation Administration, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

The Adirondack Airspace Complex consists of one restricted area and nine MOAs in the vicinity of Fort Drum, NY. Restricted areas are regulatory airspace designations, under Title 14 Code of Federal Regulations (CFR) part 73, which are established to confine or segregate activities considered hazardous to non-participating aircraft. A MOA is a non-rulemaking type of SUA established to separate or segregate certain non-hazardous military flight activities from aircraft operating in accordance with instrument flight rules (IFR), and to identify for visual flight rules (VFR) pilots where those activities are conducted. IFR aircraft may be routed through an active MOA only when air traffic control can provide approved separation from the MOA activity. VFR pilots are not restricted from flying in an active MOA, but are advised to exercise caution while doing so.

Unlike restricted areas, which are designated through rulemaking procedures, MOAs are non-rulemaking airspace areas that are established administratively and published in the National Flight Data Digest. Normally, MOA proposals are not published in a NPRM, but instead, are advertised for public comment through a nonrule circular that is distributed by an FAA Service Center office to aviation interests in the affected area. However, when a non-rulemaking action is connected to a rulemaking action, FAA procedures allow for the non-rulemaking proposal to be included in the NPRM. In such cases, the NPRM replaces the nonrule circularization requirement. Because the proposed MOAs are an integral part of the Adirondack Airspace Complex, they are being included in this NPRM.

The existing SUA is inadequate to accommodate the advanced air-to-air, air-to-ground, and threat avoidance training profiles that are essential for aircrews to achieve and maintain combat readiness. The proposed MOA realignments and restricted area modifications would provide greater tactical training options to match current real-world taskings and threats. In addition, the proposed changes would reduce longstanding environmental/noise burdens associated with the current SUA configuration by more evenly distributing activities within the Complex. The proposed SUA changes are described in the following sections.

Proposed MOA Changes

The New York ANG has proposed to redesign and expand the MOA airspace in the vicinity of Fort Drum, NY (see attached graphic). The purpose of this MOA redesign is to improve flight safety, enable more efficient real-time, joint-use management of the airspace, decrease or balance environmental impacts of the current MOA configuration, and permit more realistic training in the Adirondack Airspace Complex.

Most of the redesigned MOAs would be contained within airspace that is already designated as MOAs. However, the new MOA configuration would include additional airspace, both laterally and vertically, beyond the current MOA boundaries. The ANG proposed to cancel the nine existing MOAs at Fort Drum (Drum 1 MOA, Drum 2 MOA, Falcon 1 MOA, Falcon 3 MOA, Syracuse 1 MOA, Syracuse 2A MOA, Syracuse 2B MOA, Syracuse 3 MOA, and Syracuse 4 MOA), and replace them with 12 new MOAs as follows:

1. Adirondack A MOA, NY [New]

Boundaries. Beginning at lat. 44°30′00″ N., long. 75°20′00″ W.; to lat. 44°36′00″ N., long. 75°03′00″ W.; to lat. 44°30′00″ N., long. 75°03′00″ W.; to the point of beginning.

Altitudes. 6,000 feet MSL to but not including FL 180.

2. Adirondack B MOA, NY [New]

Boundaries. Beginning at lat. 44°19′00″ N., long. 75°37′05″ W.; to lat. 44°26′30″ N., long. 75°30′00″ W.; to lat. 44°30′00″ N., long. 75°20′00″ W.; to lat. 44°30′00″ N., long. 75°03′00″ W.; to lat. 44°27′30″ N., long. 75°03′00″ W.; to lat. 44°20′20″ N., long. 75°10′30″ W.; to lat. 44°15′09″ N., long. 75°30′42″ W.; to lat. 44°16′07″ N., long. 75°32′41″ W.; to the point of beginning; excluding R-5202B when active.

Altitudes. 2,500 feet MSL to but not including FL 180.

3. Adirondack C MOA, NY [New]

Boundaries. Beginning at lat. 44°15′09″ N., long. 75°30′42″ W.; to lat. 44°20′20″ N., long. 75°10′30″ W.; to lat. 44°27′30″ N., long. 75°03′00″ W.; to lat. 44°06′00″ N., long. 75°03′00″ W.; to lat. 44°06′00″ N., long. 75°28′49″ W.; to lat. 44°07′10″ N., long. 75°26′49″ W.; to lat. 44°11′24″ N., long. 75°22′59″ W.; to the point of beginning; excluding R-5202B when active.

Altitudes. 100 feet AGL to but not including FL 180.

4. Adirondack D MOA, NY [New]

Boundaries. Beginning at lat. 44°11′50″ N., long. 75°43′53″ W.; to lat. 44°19′00″ N., long. 75°37′05″ W.; to lat. 44°16′07″ N., long. 75°32′41″ W.; to lat. 44°10′50″ N., long. 75°38′59″ W.; to lat. 44°09′34″ N., long. 75°40′00″ W.; to the point of beginning; excluding R-5202B when active.

Altitudes. 5,000 feet MSL to but not including FL 180.

5. Carthage East MOA, NY [New]

Boundaries. Beginning at lat. 44°01′05″ N., long. 75°37′14″ W.; to lat. 44°06′00″ N., long. 75°28′49″ W.; to lat. 44°06′00″ N., long. 75°03′00″ W.; to lat. 43°53′00″ N., long. 75°03′00″ W.; to lat. 43°53′00″ N., long. 75°35′00″ W.; to the point of beginning.

Altitudes. 100 feet MSL to but not including FL 180.

6. Carthage West MOA, NY [New]

Boundaries. Beginning at lat. 43°44′00″ N., long. 75°52′00″ W.; to lat. 44°11′50″ N., long. 75°43′53″ W.; to lat. 44°09′34″ N., long. 75°40′00″ W.; to lat. 44°06′55″ N., long. 75°42′09″ W.; to lat. 44°03′20″ N., long. 75°40′49″ W.; to lat. 44°01′05″ N., long. 75°37′14″ W.; to lat. 43°53′00″ N., long. 75°35′00″ W.; to the point of beginning.

Altitudes. 6,000 feet MSL to but not including FL 180.

7. Cranberry MOA, NY [New]

Boundaries. Beginning at lat. 44°36′00″ N., long. 75°03′00″ W.; to lat. 44°36′00″ N., long. 74°35′00″ W.; to lat. 44°15′00″ N., long. 74°35′00″ W.; to lat. 43°53′00″ N., long. 75°03′00″ W.; to the point of beginning.

Altitudes. 500 feet AGL to but not including 6,000 feet MSL.

8. Drum MOA, NY [New]

Boundaries. Beginning at lat. 44°14′49″ N., long. 75°49′00″ W.; to lat. 44°19′00″ N., long. 75°44′30″ W.; to lat. 44°19′00″ N., long. 75°37′00″ W.; to lat. 44°16′07″ N., long. 75°32′41″ W.; to lat. 44°10′50″ N., long. 75°38′59″ W.; to lat. 44°09′34″ N., long. 75°40′00″ W.; to the point of beginning.

Altitudes. 500 feet AGL to but not including 5,000 feet MSL.

9. Lowville MOA, NY [New]

Boundaries. Beginning at lat. 43°44′00″ N., long. 75°52′00″ W.; to lat. 43°53′00″ N., long. 75°35′00″ W.; to lat. 43°53′00″ N., long. 75°03′00″ W.; to lat. 43°30′00″ N., long. 75°03′00″ W.; to lat. 43°30′00″ N., long. 75°52′00″ W.; to the point of beginning.

Altitudes. 100 feet AGL to but not including FL 180.

10. Tupper North MOA, NY [New]

Boundaries. Beginning at lat. 44°36′00″ N., long. 75°03′00″ W.; to lat. 44°36′00″ N., long. 74°21′00″ W.; to lat. 44°14′00″ N., long. 74°21′00″ W.; to lat. 44°06′00″ N., long. 74°12′00″ W.; to lat. 43°53′00″ N., long. 74°12′00″ W.; to lat. 43°53′00″ N., long. 75°03′00″ W.; to the point of beginning.

Altitudes. May 1-October 31: 8,000 feet MSL to but not including FL 180; November 1-April 30: 6,000 feet MSL to but not including FL 180.

11. Tupper South MOA, NY [New]

Boundaries. Beginning at lat. 43°53′00″ N., long. 75°03′00″ W.; to lat. 43°53′00″ N., long. 74°12′00″ W.; to lat. 43°40′00″ N., long. 74°12′00″ W.; to lat. 43°30′00″ N., long. 74°21′00″ W.; to lat. 43°30′00″ N., long. 75°03′00″ W.; to the point of beginning.

Altitudes. May 1-October 31: 8,000 feet MSL to but not including FL 180; November 1-April 30: 6,000 feet MSL to but not including FL 180.

12. Tupper East MOA, NY [New]

Boundaries. Beginning at lat. 44°36′00″ N., long. 74°21′00″ W.; to lat. 44°36′00″ N., long. 74°12′00″ W.; to lat. 44°06′00″ N., long. 74°12′00″ W.; to lat. 44°14′00″ N., long. 74°21′00″ W.; to the point of beginning.

Altitudes. 10,000 feet MSL to but not including FL 180.

The times of use for all of the proposed MOAs would vary on a seasonal basis. Except for the Cranberry MOA, the proposed MOA times of use are: From May 1-August 31: 0800-1700 Monday-Friday; other times by NOTAM. From September 1-April 30: 0800-2200 Monday-Friday; other times by NOTAM. For the Cranberry MOA, the times of use would be November 1-April 30: 0800-2200 Monday-Friday; other times by NOTAM. The Cranberry MOA would be closed and unavailable for use during the period May 1-October 31.

The controlling agency for all proposed MOAs would be the FAA, Boston Air Route Traffic Control Center (ARTCC). The using agency for the Adirondack A, B, C, and D; Carthage East and West; Cranberry; and Drum MOAs would be the New York ANG, 174th Fighter Wing, Detachment 1 (NY ANG, 174FW/Det 1), Fort Drum, NY. The using agency for the Lowville and Tupper North, South, and East MOAs would be the U.S. Air Force, Northeast Air Defense Sector (NEADS), Rome, NY.

The proposed MOAs were designed to allow for more access to the SUA by civil aviation. During periods when the airspace is not needed for its designated purpose, the airspace would be returned to the controlling agency (Boston ARTCC). The reconfigured MOAs were designed using a building block system which segments the SUA into smaller areas that can be combined and activated for use as needed on a real-time basis. This system provides better airspace management and increased training efficiency by only using the portions of SUA that are needed for specific training events, while the remainder of the complex would be available for civil use.

When not activated, the Carthage MOAs can be used as a transit corridor for nonparticipating aircraft through the center of a normally active MOA complex. For this reason, special emphasis will be placed on activating only the required altitude blocks in order to maintain the area as a viable MOA transit corridor. The Cranberry MOA will be used as a seasonal alternate during November through April, when low altitudes in the Lowville MOA are unusable much of the time due to weather. The Cranberry MOA would be closed during the period May 1 through October 31.

A number of mitigations were incorporated in developing the Tupper MOAs. To alleviate concerns about the potential impact on commercial traffic flows along the southeastern edge of the MOA airspace, the Tupper South MOA was designed as a separate subarea from Tupper North.

This will aid ATC in accommodating traffic overflow to the north of V-496/J-547 and west of V-203/J-570 in the Syracuse, Glens Falls, and Plattsburgh areas. Additionally, creating the Tupper South MOA as a separate area gives ATC the flexibility to cap, raise the floor, or withhold the airspace without shutting down the entire Tupper airspace. This arrangement would allow ATC to implement real-time floor adjustments to accommodate commuter and general aviation traffic underneath the Tupper MOAs (i.e., on V-196) during times when weather or traffic congestion dictate. Also, because the Tupper North and Tupper South MOAs are located entirely over the Adirondack Park, the altitude floors of the Tupper North and Tupper South MOAs would be adjusted on a seasonal basis. From November through April, the Tupper North and South MOA floors would be at 6,000 feet MSL. However, from May through October, when outdoor recreation and general aviation activities in that area are at a peak, the Tupper North and South MOA floors would be raised to 8,000 feet MSL.

In order to minimize the aeronautical and environmental impacts to the Adirondack Regional Airport and the Saranac Lake region, the northeastern part of the Tupper North MOA was subdivided to create the Tupper East MOA with a floor of 10,000 feet MSL.

If approved, the above MOA changes would be published in the National Flight Data Digest for addition to the National Airspace System Database and aeronautical charts.

Restricted Area Proposal

The FAA is considering an amendment to 14 CFR part 73 to modify the designated altitudes of existing restricted area R-5201, Fort Drum, NY, and to establish two new restricted areas, R-5202A and R-5202B, at Fort Drum, NY (see attached graphic). These changes are part of the New York ANG's Adirondack Airspace Complex proposal. Specifically, the FAA is proposing a minor change to the designated altitudes for R-5201 by changing the current wording from “Surface to 23,000 feet MSL,” to read “Surface to but not including 23,000 feet MSL.” This change to R-5201's upper altitude limit would accommodate the establishment of a new restricted area, R-5202A, to be designated immediately above R-5201. R-5201 currently hosts a variety of air-to-ground, air-to-air, and surface-based weapons activities. Those activities will continue with the modified configuration. The new R-5202A would be established directly above using the same lateral boundaries as R-5201. R-5202A would extend from Flight Level (FL) 230 to FL 290. A second new restricted area, R-5202B, would be established adjacent to, and extending approximately 4 nautical miles to the northeast of, the existing R-5201. The designated altitudes for R-5202B would be 6,000 feet MSL to FL 290. The ANG requested these restricted area changes to permit more realistic air-to-ground and weapons delivery tactical training at the Adirondack Range. With these changes, training can be conducted that replicates the conditions and tactics that units are tasked to perform on real-world wartime deployments. Today's technology allows pilots to operate at higher altitudes, and engage targets from far greater ranges, further reducing their exposure to ground threats. The existing restricted area is not large enough to allow this essential high altitude, long-range weapons delivery training to be accomplished at the Adirondack Range.

In combination with this rulemaking restricted area proposal, the FAA is also considering the ANG's nonrulemaking proposal to redesign and expand the Military Operations Areas in the vicinity of Fort Drum, NY, as described above in the “Proposed MOA Changes” section.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.52 [Amended]

2. § 73.52 is amended as follows:

* * * * *

1. R-5201 Fort Drum, NY [Amended]

By removing the current designated altitudes and substituting the following:

Designated altitudes. Surface to but not including 23,000 feet MSL.

2. R-5202A Fort Drum, NY [New]

Boundaries. Beginning at lat. 44°01′05″ N., long. 75°37′14″ W.; to lat. 44°03′20″ N., long. 75°40′49″ W.; to lat. 44°06′55″ N., long. 75°42′09″ W.; to lat. 44°10′50″ N., long. 75°38′59″ W.; to lat. 44°16′07″ N., long. 75°32′41″ W.; to lat. 44°11′24″ N., long. 75°22′59″ W.; to lat. 44°07′10″ N., long. 75°26′49″ W.; to the point of beginning.

Designated altitudes. FL 230 to FL 290.

Time of designation. May 1-August 21: 0800-1700, Monday-Friday; other times by NOTAM. September 1-April 30: 0800-2200 local time, Monday-Friday; other times by NOTAM.

Controlling agency. FAA, Boston ARTCC.

Using agency. NY ANG, 174FW/Det 1, Fort Drum, NY

3. R-5202B Fort Drum, NY [New]

Boundaries. Beginning at lat. 44°10′18″ N., long. 75°41′18″ W.; to lat. 44°20′32″ N., long. 75°32′04″ W.; to lat. 44°14′00″ N., long. 75°17′00″ W.; to lat. 44°06′00″ N., long. 75°25′10″ W.; to lat. 44°06′00″ N., long. 75°28′49″ W.; to lat. 44°07′10″ N., long. 75°26′49″ W.; to lat. 44°11′24″ N., long. 75°22′59″ W.; to lat. 44°16′07″ N., long. 75°32′41″ W.; to lat. 44°10′50″ N., long. 75°38′59″ W.; to lat. 44°09′34″ N., long. 75°40′00″ W.; to the point of beginning.

Designated altitudes. 6,000 feet MSL to FL 290.

Time of designation. May 1-August 21: 0800-1700, Monday-Friday; other times by NOTAM. September 1-April 30: 0800-2200 local time, Monday-Friday; other times by NOTAM.

Controlling agency. FAA, Boston ARTCC.

Using agency. NY ANG, 174FW/Det 1, Fort Drum, NY

* * * * *

Issued in Washington, DC, on May 18, 2007.
Edith V. Parish,
Manager, Airspace and Rules Group.

BILLING CODE 4910-13-P

[FR Doc. 07-2734 Filed 6-5-07; 8:45 am]

BILLING CODE 4910-13-C